DEPARTMENT OF ENERGY

Federal Energy Regulatory Commission

[Docket No. EL99-75-003, et al.]

California Electricity Oversight Board, et al.; Electric Rate and Corporate Regulation Filings

February 9, 2000.

Take notice that the following filings have been made with the Commission:

1. California Electricity Oversight Board

[Docket No. EL99-75-003]

Take notice that on January 31, 2000, the California Independent System Operator Corporation (ISO) tendered for filing Amended and Restated Bylaws, as revised December 1999. The Amended and Revised Bylaws are intended to comply with the Commission's Order in the above-captioned docket.

The ISO states that this filing has been served upon all persons on the official service list in the above-identified dockets.

Comment date: March 1, 2000, in accordance with Standard Paragraph E at the end of this notice.

2. PanCanadian Energy Services Inc., Shell Energy Services Company, L.L.C., DTE Energy Trading, Inc., PG&E Energy Services, Energy Trading, Corporation H.Q. Energy Services (U.S.) Inc., Columbia Energy, C.C. Pace Resources, Inc., Energy PM, Inc. and Hartford Power Sales, L.L.C.

[Docket Nos. ER90-168-044, ER99-2109-003, ER97-3834-009, ER95-1614-022, ER97-851-011, ER97-3667-009, ER94-1181-022, ER98-2918-006 and ER95-393-026]

Take notice that on January 27, 2000, the above-mentioned power marketers filed quarterly reports with the Commission in the above-mentioned proceedings for information only.

3. Western Systems Power Pool

[Docket No. ER91-195-041]

Take notice that on January 31, 2000, the Western Systems Power Pool (WSPP) filed certain information as required by Ordering Paragraph (D) of the Commission's June 27, 1991 Order (55 FERC ¶ 61,495) and Ordering Paragraph (C) of the Commission's June 1, 1992 Order On Rehearing Denying Request Not To Submit Information, And Granting In Part And Denying In Part Privileged Treatment. Pursuant to 18 CFR 385.211, WSPP has requested privileged treatment for some of the information filed consistent with the June 1, 1992 order.

Copies of WSPP's informational filing are on file with the Commission, and the non-privileged portions are available for public inspection.

4. AEP Power Marketing, Inc., Duke Energy Merchants, L.L.C., Duke Energy Trading and Marketing, L.L.C., International Energy Consultants, Aquila Energy Marketing Corporation, IGI Resources, Inc., El Paso Power Services Company, LG&E Energy Marketing Inc., InPower Marketing Corp., NYSEG Solutions, Inc., WKE Station Two Inc., Sonat Power Marketing L.P., Entergy Power Marketing Corp., Engage Energy US, L.P., and Unitil Resources, Inc.

[Docket Nos. ER96-2495-014, ER99-4485-002, ER99-2774-002, ER99-3130-001, ER99-1751-005, ER95-1034-018, ER95-428-023, ER94-1188-032, ER99-3964-002, ER99-220-004, ER98-1278-007, ER96-2343-015, ER95-1615-021, ER97-654-013 and ER97-2462-010]

Take notice that on January 31, 2000, the above-mentioned power marketers filed quarterly reports with the Commission in the above-mentioned proceedings for information only.

5. CL Power Sales Seven, L.L.C., CL Power Sales Two, L.L.C., CL Power Sales One, L.L.C., CP Power Sales Fifteen, L.L.C., CP Power Sales Fourteen, L.L.C., CP Power Sales Thirteen, L.L.C., CP Power Sales Twelve, L.L.C., CP Power Sales Eleven, L.L.C., CP Power Sales Nineteen, L.L.C., CP Power Sales Seventeen, L.L.C., CP Power Sales Eighteen, L.L.C., and CP Power Sales Twenty, L.L.C.

[Docket Nos. ER96-2652-046, ER95-892-049, ER95-892-050, ER99-890-005, ER99-891-005, ER99-892-005, ER99-3201-001, ER99-894-005, ER99-4228-002, ER99-4229-002, ER99-4230-002, ER99-4231-001 and]

Take notice that on January 27, 2000, the above-mentioned power marketers filed quarterly reports with the Commission in the above-mentioned proceedings for information only.

6. Pepco Services, Inc.

[Docket No. ER98-3096-006]

Take notice that on January 31, 2000, Pepco Services, Inc. filed their quarterly report for the quarter ending December 31, 1999, for information only.

7. Select Energy, Inc., North American Energy, Inc., Duke/Louis Dreyfus, L.L.C., CLECO Marketing & Trading LLC, Energy Services, Inc., Questar Energy Trading Company, Exact Power Co., Inc., Direct Electric Inc., Panda Guadalupe Power Marketing, LLC, Calpine Power Services Company, Edison Source, Panda Power Corporation, Sempra Energy Trading Corp., WPS-Power Development, Inc., Edison Mission Marketing & Trading Inc., Energy International Power Marketing Corporation, Commonwealth Energy Corporation, ICC Energy Corporation, and PG&E Energy Trading—Power

[Docket Nos. ER99-14-006, ER98-242-009, ER96-108-020, ER99-2300-003, ER95-1021-018, ER96-404-017, ER97-382-012, ER94-1161-021, ER98-3901-002, ER94-1545-021, ER96-2150-016, ER98-447-008, ER94-1691-027, ER96-1088-030, ER99-852-005, ER98-2059-007, ER97-4253-008, ER96-1819-013, and ER95-1625-023]

Take notice that on January 31, 2000, the above-mentioned power marketers filed quarterly reports with the Commission in the above-mentioned proceedings for information only.

8. FPL Energy Services, Inc., FirstEnergy Trading Services, Inc., Citizens Power Sales, Cook Inlet Energy Supply, Anker Power Services, Inc., Coral Power, L.L.C., CL Power Sales Ten, L.L.C., CL Power Sales Nine, L.L.C., CL Power Sales Eight, L.L.C., CL Power Sales Six, L.L.C., ConAgra Energy Service, Inc., Sunoco Power Marketing L.L.C., and WPS Energy Services, Inc.

[Docket Nos. ER99-2337-003, ER99-2516-002, ER94-1685-028, ER96-1410-017, ER97-3788-009, ER96-25-019, ER96-2652-042, ER96-2652-043, ER96-2652-044, ER96-2652-045, ER95-1751-017, ER97-870-012, and ER96-1088-029]

Take notice that on January 27, 2000, the above-mentioned power marketers filed quarterly reports with the Commission in the above-mentioned proceedings for information only.

9. Duquesne Light Company and PECO Energy Company

[Docket Nos. ER00-1224-000 and ER00-1335-000]

Take notice that on January 28, 2000, the above-mentioned affiliated power producers and/or public utilities filed their quarterly reports for the quarter ending December 31, 1999.

Comment date: February 29, 2000, in accordance with Standard Paragraph E at the end of this notice.

10. Alcoa Power Generating, Inc., Alcoa Inc., et al., Tapoco, Inc. and Yadkin, Inc.

[Docket Nos. ER00-1372-000, EC99-74-000; Project Nos. 2169-012 and 2197-039]

Take notice that on January 28, 2000, Alcoa Power Generating Inc. (APGI) gave notice to the Commission of the consummation of an internal corporate reorganization among Alcoa Inc. (Alcoa) power subsidiaries resulting in an entity named Alcoa Power Generating Inc. APGI also requested Commission authorization to rename the licensee of Project No. 2169 from Tapoco, Inc. (Tapoco) to APGI. In accordance with Sections 35.16 and 131.51 of the Commission's regulations, 18 CFR 35.16, 131.51, APGI adopted and ratified all applicable rate schedules filed with the FERC by Tapoco and one filed by Colockum Transmission Company, Inc. APGI also filed to have the Commission records reflect the transfer of the Project No. 2197 hydroelectric license from Yadkin, Inc. to APGI as a result of the internal corporate reorganization.

Comment date: February 18, 2000, in accordance with Standard Paragraph E at the end of this notice.

11. California Power Exchange Corporation, Medical Area Total Energy Plant, Inc., CSW Power Marketing, Inc., Lowell Cogeneration Company Limited, Partnership, South Glens Falls Energy, LLC, Oklahoma Gas and Electric Co., Fitchburg Gas and Electric Light Company, Western Kentucky Energy Corp., CLECO Corporation, Montana-Dakota Utilities Co., New York State Electric & Gas Corporation, Indeck-Pepperell Power Associates, Inc., Northern States Power Company (Minnesota), and Northern States Power Company (Wisconsin), EME Homer City Generation, L.P., Northeast Utilities Service Company and Unitil Power Corp.

[Docket Nos. ER00-1388-000, ER00-1396-000, ER00-1416-000, ER00-1417-000, ER00-1418-000, ER00-1420-000, ER00-1421-000, ER00-1422-000, ER00-1423-000, ER00-1424-000, ER00-1425-000, ER00-1426-000, ER00-1427-000, ER00-1428-000, ER00-1429-000 and ER00-1430-000]

Take notice that on January 31, 2000, the above-mentioned affiliated power producers and/or public utilities filed their quarterly reports for the quarter ending December 31, 1999.

Comment date: February 29, 2000, in accordance with Standard Paragraph E at the end of this notice.

12. EME Midwest Generation LLC, Entergy Services, Inc., Portland General Electric Company, AmerGen Energy Company, L.L.C., Carthage Energy, LLC, Northeast Generation Company, UAE Lowell Power LLC, Logan Generating Company, L.P., Geysers Power Company, LLC, UtiliCorp United, Inc., The Dayton Power and Light, Southern Energy Lovett, L.L.C., Southern Energy NY-GEN, L.L.C., Southern Energy Bowline, L.L.C., and Tenaska Georgia Partners, L.P., Tenaska Gateway Partners, Ltd.

[Docket Nos. ER00-1431-000, ER00-1432-000, ER00-1433-000, ER00-1434-000, ER00-1435-000, ER00-1436-000, ER00-1437-000, ER00-1438-000, ER00-1440-000, ER00-1441-000, ER00-1442-000, ER00-1443-000, ER00-1444-000, ER00-1445-000, ER00-1446-000, and ER00-1447-000]

Take notice that on January 31, 2000, the above-mentioned affiliated power producers and/or public utilities filed their quarterly reports for the quarter ending December 31, 1999.

Comment date: February 29 , 2000, in accordance with Standard Paragraph E at the end of this notice.

13. California Independent System Operator Corporation

[Docket No. ER00-866-000]

Take notice that on February 4, 2000, the California Independent System Operator Corporation (ISO), tendered for filing a Notice To Withdraw Amendment No. 24 to the ISO Tariff—Revised Long-Term Grid Planning Process—and Request To Terminate Proceeding.

The ISO states that it is withdrawing Amendment No. 24, which was originally filed on December 21, 1999, and has requested termination of the proceeding in light of the comprehensive review that it will be undertaking of its congestion management protocols and in an effort to respond to the concerns expressed by its stakeholders.

The ISO states that this filing has been served on all parties listed on the official service list in the above-referenced docket.

Comment date: February 25, 2000, in accordance with Standard Paragraph E at the end of this notice.

14. California Power Exchange Corporation

[Docket No. ER00-1395-000]

Take notice that on January 31, 2000, California Power Exchange Corporation (CalPX), on behalf of its CalPX Trading Services Division (CTS), filed an index of CTS customers through December 31, 1999. This quarterly filing is required by the Commission's May 26, 1999 order in Docket No. ER99-2229-000, authorizing the establishment of a Block-Forward Market.

Comment date: February 22, 2000, in accordance with Standard Paragraph E at the end of this notice.

15. Automated Power Exchange, Inc.

[Docket No. ER00-1439-000]

Take notice that on January 31, 2000, Automated Power Exchange, Inc. (APX) filed its annual informational report. APX requested confidential treatment of the filing. The report reports transactions for the year 1999.

Comment date: February 22, 2000, in accordance with Standard Paragraph E at the end of this notice.

16. Commonwealth Edison Company, DPL Energy, Duke Energy St. Francis, LLC, NRG Power Marketing Inc., Astoria Gas Turbine Power LLC, Arthur Kill Power LLC, Huntley Power LLC, Dunkirk Power LLC, Mid-American Power LLC, Brooklyn Navy Yard Cogeneration Partners, L.P., Monroe Power Company, ISO New England Inc., Carolina Power & Light Company, The Detroit Edison Company, and American Electric Power Service Corporation

[Docket Nos. ER00-1448-000, ER00-1449-000, ER00-1450-000, ER00-1451-000, ER00-1456-000, ER00-1457-000, ER00-1458-000, ER00-1454-000, ER00-1459-000, ER00-1487-000, and ER00-1518-000]

Take notice that on January 31, 2000, the above-mentioned affiliated power producers and/or public utilities filed their quarterly reports for the quarter ending December 31, 1999.

Comment date: February 29, 2000, in accordance with Standard Paragraph E at the end of this notice.

17. MidAmerican Energy Company

[Docket No. ER00-1452-000]

Take notice that on January 31, 2000, MidAmerican Energy Company, tendered for filing a proposed change in its Rate Schedule for Power Sales, FERC Electric Rate Schedule, Original Volume No. 5. The proposed change consists of certain reused tariff sheets consistent with the quarterly filing requirement.

MidAmerican states that it is submitting these tariff sheets for the purpose of complying with the requirements set forth in Southern Company Services, Inc., 75 FERC 61,130 (1996), relating to quarterly filings by public utilities of summaries of short-term market-based power transactions. The tariff sheets contain summaries of such transactions under the Rate Schedule for Power Sales for the applicable quarter.

MidAmerican proposes an effective date of the first day of the applicable quarter for the rate schedule change.

Accordingly, MidAmerican requests a waiver of the 60-day notice requirement for this filing. MidAmerican states that this date is consistent with the requirements of the Southern Company Services, Inc. order and the effective date authorized in Docket No. ER96-2459-000.

Copies of the filing were served upon MidAmerican's customers under the Rate Schedule for Power Sales and the Iowa Utilities Board, the Illinois Commerce Commission and the South Dakota Public Utilities Commission.

Comment date: February 22, 2000, in accordance with Standard Paragraph E at the end of this notice.

18. InPower Marketing Corporation

[Docket No. ER00-1519-000]

Take notice that, on February 1, 2000, Inpower Marketing Corporation tendered for filing a Rate Schedule for purchases of electricity and power from independent power producers for resale under which InPower Marketing Corporation may purchase energy or capacity and energy from small independent power producers meeting certain specified requirements.

Comment date: February 22, 2000, in accordance with Standard Paragraph E at the end of this notice.

19. Niagara Mohawk Power Corporation

[Docket No. ER00-1521-000]

Take notice that on February 3, 2000, Niagara Mohawk Power Corporation (Niagara Mohawk), tendered for filing with the Federal Energy Regulatory Commission an executed Transmission Service Agreement between Niagara Mohawk and Constellation Power Source, Inc. (Constellation). This Transmission Service Agreement specifies that Constellation has signed on to and has agreed to the terms and conditions of Niagara Mohawk's Open Access Transmission Tariff as filed in Docket No. OA96-194-000. This Tariff, filed with FERC on July 9, 1996, will allow Niagara Mohawk and Constellation to enter into separately scheduled transactions under which Niagara Mohawk will provide firm transmission service for Constellation as the parties may mutually agree.

Niagara Mohawk requests an effective date of July 1, 1998. Niagara Mohawk has requested waiver of the notice requirements for good cause shown.

Niagara Mohawk has served copies of the filing upon the New York State Public Service Commission and Constellation.

Comment date: February 22, 2000, in accordance with Standard Paragraph E at the end of this notice.

20. Southern Company Services, Inc.

[Docket No. ER00-1522-000]

Take notice that on February 3, 2000, Southern Company Services, Inc. (SCS), acting on behalf of Alabama Power Company, Georgia Power Company, Gulf Power Company, Mississippi Power Company, and Savannah Electric and Power Company (collectively referred to as Southern Company), filed one (1) umbrella service agreement for firm point-to-point transmission service between SCS, as agent for Southern Company, and Northern States Power Company (NSP) and one (1) umbrella service agreement for non-firm point-to-point transmission service between SCS, as agent for Southern Company, and NSP under the Open Access Transmission Tariff of Southern Company (FERC Electric Tariff, Original Volume No. 5).

Comment date: February 24, 2000, in accordance with Standard Paragraph E at the end of this notice.

21. Southern California Edison Company

[Docket No. ER00-1523-000]

Take notice that on February 3, 2000, Southern California Edison Company (SCE), tendered for filing the Letter of Agreement for the Capital Additions on the Radial Lines at Ormond Beach Generating Station (Letter of Agreement) between SCE and Reliant Energy Ormond Beach, L.L.C. (Reliant Energy).

The Letter of Agreement provides the terms and conditions under which Reliant Energy will pay SCE for the replacement of six 220 kV coupling capacitor voltage transformers on the radial lines at Ormond Beach Generating Station.

Comment date: February 24, 2000, in accordance with Standard Paragraph E at the end of this notice.

22. Reliant Energy Services, Inc.

[Docket No. ER00-1526-000]

Take notice that on February 4, 2000, Reliant Energy Services, Inc. (RES), tendered for filing pursuant to Section 205 of the Federal Power Act, 16 U.S.C. 824d (1994), and Part 35 of the Commission's regulations, 18 CFR 35 (1999) a petition for an order accepting for filing its FERC Electric Rate Schedule Nos. 2, 3, 4, 5 and 6 providing, respectively, for the sale of designated ancillary services at market-based rates (i) to the California Independent System Operator Corporation (CAISO) and to entities that are self-supplying ancillary services to the CAISO, (ii) to customers within the New England Power Pool, (iii) to customers purchasing in the Pennsylvania-New Jersey-Maryland Interchange Energy Market and in bilateral sales within the Pennsylvania-New Jersey-Maryland power pool, (iv) through the ancillary services market administered by the New York Independent System Operator and (v) outside those ISO markets.

RES, an indirect, wholly-owned subsidiary of Reliant Energy, Incorporated, is a power marketer authorized to sell electric energy and capacity at wholesale at market-based rates. RES requests waiver of the prior notice requirements of Section 35.3 of the Commission's regulations, 18 CFR 35.3 (1999), to permit its FERC Electric Rate Schedule Nos. 2, 3, 4, 5 and 6 to become effective as of the date of its filing.

Comment date: February 25, 2000, in accordance with Standard Paragraph E at the end of this notice.

23. Montana-Dakota Utilities Co., a division of MDU Resources Group, Inc.

[Docket No. ER00-1527-000]

Take notice that on February 4, 2000 Montana-Dakota Utilities Co., a division of MDU Resources Group, Inc. (Montana-Dakota), tendered for filing amendments to a certain Interconnection and Common Use Agreement entered into between Montana-Dakota and Basin Electric Power Cooperative, Inc. (Basin).

Copies of the filing were served on Basin and on the interested utility regulatory agencies.

Comment date: February 25, 2000, in accordance with Standard Paragraph E at the end of this notice.

24. Southern California Edison Company

[Docket No. ER00-1528-000]

Take notice that on February 4, 2000, Southern California Edison Company (SCE), tendered for filing a Service Agreement for Wholesale Distribution Service and an Interconnection Facilities Agreement between Nuevo Energy Company (Nuevo) and SCE.

These agreements specify the terms and conditions pursuant to which SCE will interconnect Nuevo's generation to its electrical system and provide up to 5.6 MW of Distribution Service to Nuevo.

Comment date: February 25, 2000, in accordance with Standard Paragraph E at the end of this notice.

Standard Paragraphs

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

Linwood A. Watson, Jr.,
Acting Secretary.

[FR Doc. 00-3756 Filed 2-16-00; 8:45 am]

BILLING CODE 6717-01-P